DEPARTMENT OF ENERGY

Federal Energy Regulatory Commission

[Project No. 1494-405]

Grand River Dam Authority; Notice of Availability of Environmental Assessment

In accordance with the National Environmental Policy Act of 1969 and the Federal Energy Regulatory Commission's (Commission or FERC) regulations, 18 CFR part 380, Commission staff reviewed the Grand River Dam Authority's (GRDA) application for an amendment to the license of the Pensacola Hydroelectric Project No. 1494 and have prepared an Environmental Assessment (EA) for the proposed amendment. GRDA proposes to acquire, develop, and manage a 540-acre tract of land known as the Coal Creek Wildlife Management Area (WMA) and include these lands in the project boundary. This area is located along the south side of the Neosho River about three miles southwest of Miami, Oklahoma, immediately adjacent to the project boundary. Features of the Pensacola Project include: a concrete dam; auxiliary spillways; a reservoir known as Grand Lake O' the Cherokees (Grand Lake); six penstocks, turbines, and generators; a powerhouse; a tailrace; and appurtenant facilities. The project is located on the Neosho (Grand) River in Craig, Delaware, Mayes, and Ottawa counties, Oklahoma, and occupies federal land administered by the Bureau of Indian Affairs.

The EA contains Commission staff's analysis of the potential environmental effects of developing and maintaining the Coal Creek WMA by GRDA and cooperatively with the Oklahoma Department of Wildlife Conservation to provide habitat for migratory birds and other wildlife through specific habitat restoration and management measures, and concludes that the proposed amendment, with appropriate environmental protective measures, would not constitute a major federal action that would significantly affect the quality of the human environment.

The EA may be viewed on the Commission's website at http://www.ferc.gov using the “elibrary” link. Enter the docket number (P-1494) in the docket number field to access the document. For assistance, contact FERC Online Support at FERCOnlineSupport@ferc.gov or toll-free at 1-866-208-3676, or for TTY, (202) 502-8659.

You may also register online at http://www.ferc.gov/docs-filing/esubscription.asp to be notified via email of new filings and issuances related to this or other pending projects. For assistance, contact FERC Online Support.

All comments must be filed by February 7, 2024.

The Commission strongly encourages electronic filing. Please file comments using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support. In lieu of electronic filing, you may submit a paper copy. Submissions sent via the U.S. Postal Service must be addressed to: Debbie-Anne Reese, Acting Secretary, Federal Energy Regulatory Commission, 888 First Street NE, Room 1A, Washington, DC 20426. Submissions sent via any other carrier must be addressed to: Debbie-Anne Reese, Acting Secretary, Federal Energy Regulatory Commission, 12225 Wilkins Avenue, Rockville, Maryland 20852. The first page of any filing should include docket number P-1494-405.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

For further information, contact Rebecca Martin at 202-502-6012 or Rebecca.Martin@ferc.gov.

Dated: January 8, 2024.
Debbie-Anne A. Reese,
Acting Secretary.

[FR Doc. 2024-00597 Filed 1-12-24; 8:45 am]

BILLING CODE 6717-01-P